DEPARTMENT OF AGRICULTURE

Agricultural Marketing Service

[Docket No. AMS-FV-13-0063; FV13-900-1]

Notice of Request for Extension of a Currently Approved Assessment Exemption for Organic Commodities

AGENCY: Agricultural Marketing Service, USDA.

ACTION: Notice and request for comments.

SUMMARY: In accordance with the Paperwork Reduction Act of 1995 (44 U.S.C. 3501), this notice announces the Agricultural Marketing Service's (“AMS”) intention to request an extension for the forms currently used by marketers to apply for exemption from market promotion assessments under 22 marketing order programs.

DATES: Comments on this notice must be received by January 13, 2014.

Additional Information: Contact Andrew Hatch, Supervisory Marketing Specialist, Marketing Order and Agreement Division, Fruit and Vegetable Program, AMS, USDA, 1400 Independence Avenue SW., Stop 0237, Room 1406-S, Washington, DC 20250-0237; Tel: (202) 720-2491, Email: andrew.hatch@ams.usda.gov.

Small businesses may request information on this notice by contacting Jeffrey Smutny, Marketing Order and Agreement Division, Fruit and Vegetable Program, AMS, USDA, 1400 Independence Avenue SW., Stop 0237, Room 1406-S, Washington, DC 20250-0237; Tel: (202) 690-3919; or Email: jeffrey.smutny@ams.usda.gov.

Comments: Comments are welcome and should reference the docket number and the date and page number of this issue of the Federal Register, as well as the appropriate Marketing Order number. Comments may be submitted by mail to the Docket Clerk, Fruit and Vegetable Program, AMS, USDA, 1400 Independence Avenue SW., Stop 0237, Room 1406-S, Washington, DC 20250-0237, or online at www.regulations.gov. All comments received will be available for public inspection in the Office of the Docket Clerk during regular USDA business hours, or they can be viewed at www.regulations.gov.

All comments to this notice will be summarized and included in the request for OMB approval, and will become a matter of public record.

SUPPLEMENTARY INFORMATION: Title: Organic Handler Market Promotion Assessment Exemption under 26 Federal Marketing Orders.

OMB Number: 0581-0216.

Expiration Date of Approval: March 31, 2014.

Type of Request: Extension of a currently-approved information collection.

Abstract: Marketing Order (“Order”) programs provide an opportunity for producers of fresh fruit, vegetables, and specialty crops in specified production areas to work together to solve marketing problems that cannot be solved individually.

Under the Agricultural Marketing Agreement Act of 1937 as amended (7 U.S.C. 601-674), Orders may authorize production and marketing research, including paid advertising, to promote various commodities, which is paid for by assessments that are levied on the handlers who are regulated by the Orders.

On May 13, 2002, the Federal Agriculture Improvement and Reform Act of 1996 (7 U.S.C. 7201) was amended by the Farm Security and Rural Investment Act (7 U.S.C. 7901), exempting any person who handles or markets solely 100 percent organic products from paying these assessments with respect to any agricultural commodity that is produced on a certified organic farm, as defined in the Organic Foods Production Act of 1990 (7 U.S.C. 6502). A certified organic handler can apply for this exemption by completing a “Certified Organic Handler Application for Exemption from Market Promotion Assessments Paid Under Federal Marketing Orders,” and submitting it to the applicable Marketing Order Committee or Board.

Section 900.700 of the regulations (7 CFR Part 900.700) provides for exemption from assessments. This notice applies to the following Orders: 7 CFR parts 906, Oranges and grapefruit grown in Lower Rio Grande Valley in Texas; 915, Avocados grown in south Florida; 922, Apricots grown in designated counties in Washington; 923, Sweet cherries grown in designated counties in Washington; 925, Grapes grown in a designated area of southeastern California; 927, Pears grown in Oregon and Washington; 929, Cranberries grown in Massachusetts, Rhode Island, Connecticut, New Jersey, Wisconsin, Michigan, Minnesota, Oregon, Washington, and Long Island in New York; 930, Tart cherries grown in Michigan, New York, Pennsylvania, Oregon, Utah, Washington, and Wisconsin; 932, Olives grown in California; 948, Irish potatoes grown in Colorado; 955, Vidalia onions grown in Georgia; 956, Sweet onions grown in the Walla Walla Valley of southeast Washington and northeast Oregon; 958, Onions grown in certain designated counties in Idaho, and Malheur County, Oregon; 959, Onions grown in South Texas; 966, Tomatoes grown in Florida; 981, Almonds grown in California; 982, Hazelnuts grown in Oregon and Washington; 984, Walnuts grown in California; 985, spearmint oil produced in Washington, Idaho, Oregon, and parts of Nevada and Utah; 987, Domestic dates produced or packed in Riverside County, California; 989, Raisins produced from grapes grown in California; and 993, Dried prunes produced in California.

The information collected is used only by authorized Marketing Order Committee or Board employees, who are the primary users of the information, and by authorized representatives of the USDA, including the AMS Fruit and Vegetable Programs' regional and headquarters staff, who are the secondary users of the information.

Estimate of Burden: The public reporting burden for this collection of information is estimated to average 30 minutes per response.

Respondents: Respondents are eligible certified organic handlers.

Estimated Number of Respondents: 55.

Estimated Number of Total Annual Responses: 55.

Estimated Number of Responses per Respondent: 1

Estimated Total Annual Burden on Respondents: 28 hours.

Comments are invited on: (1) Whether the proposed collection of information is necessary for the proper performance of the functions of the Agency, including whether the information will have practical utility; (2) the accuracy of the Agency's estimate of the burden of the proposed collection of information, including the validity of the methodology and assumptions used; (3) ways to enhance the quality, utility and clarity of the information to be collected; and (4) ways to minimize the burden of the collection of information on those who are to respond, including through the use of appropriate automated, electronic, mechanical, or other technological collection techniques or other forms of information technology.

Dated: November 5, 2013.
Rex A. Barnes,
Associate Administrator, Agricultural Marketing Service.

[FR Doc. 2013-26946 Filed 11-8-13; 8:45 am]

BILLING CODE 3410-02-P